DEPARTMENT OF COMMERCE

National Oceanic and Atmospheric Administration

RIN 0648-XD178

New England Fishery Management Council; Public Meeting

AGENCY: National Marine Fisheries Service (NMFS), National Oceanic and Atmospheric Administration (NOAA), Commerce.

ACTION: Notice; public meetings.

SUMMARY: The New England Fishery Management Council's (Council) Herring Advisory Panel and Oversight Committee will meet to consider actions affecting New England fisheries in the exclusive economic zone (EEZ).

DATES: These meetings will be held on Wednesday, April 2, 2014 at 9:30 a.m. and Thursday, April 3, 2014 at 9:30 a.m.

ADDRESSES:

Meeting address: These meetings will be held at the Sheraton Colonial, One Audubon Road Wakefield, MA 01880; Phone: (781) 245-9300; Fax: (781) 245-0842.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Wednesday, April 2, 2014 Beginning at 9:30 a.m.

The Herring Advisory Panel will meet to review information, alternatives, and analysis in Framework Adjustment 4 to the Atlantic Herring Fishery Management Plan (FMP); Framework 4 includes alternatives to address two disapproved elements of Amendment 5—dealer weighing/reporting provisions and management measures to address net slippage; develop recommendations for the Herring Committee and Council to consider when selecting final measures for Framework 4 and address other business, as necessary.

Thursday, April 3, 2014 Beginning at 9:30 a.m.

The Herring Oversight Committee will meet to review information, alternatives, and analysis in Framework Adjustment 4 to the Atlantic Herring FMP. They will also review and discuss Herring Advisory Panel recommendations related to Framework 4; develop recommendations for the Council to consider when selecting final measures for Framework 4 and address other business, as necessary.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Thomas A. Nies (see ADDRESSES) at least 5 days prior to the meeting date.

Authority: 16 U.S.C. 1801 et seq.

Dated: March 12, 2014.
Tracey L. Thompson,
Acting Deputy Director, Office of Sustainable Fisheries, National Marine Fisheries Service.

[FR Doc. 2014-05784 Filed 3-14-14; 8:45 am]

BILLING CODE 3510-22-P